DEPARTMENT OF TRANSPORTATION

Pipeline and Hazardous Materials Safety Administration

[Docket No. PHMSA-2015-0140]

Pipeline Safety: Potential for Damage to Pipeline Facilities Caused by the Passage of Hurricanes

AGENCY: Pipeline and Hazardous Materials Safety Administration (PHMSA), DOT.

ACTION: Notice; Issuance of Advisory Bulletin.

SUMMARY: PHMSA is issuing this advisory bulletin to remind owners and operators of gas and hazardous liquid pipelines of the potential for damage to pipeline facilities caused by the passage of hurricanes.

ADDRESSES: This document can be viewed on the Office of Pipeline Safety (OPS) home page at: http://ops.dot.gov.

FOR FURTHER INFORMATION CONTACT: Pipeline operators regulated by PHMSA should contact the appropriate PHMSA Regional Office. PHMSA's Regional Offices and their contact information are as follows:

• Eastern Region: Connecticut, Delaware, District of Columbia, Maine, Maryland, Massachusetts, New Hampshire, New Jersey, New York, Ohio, Pennsylvania, Rhode Island, Vermont, Virginia, and West Virginia, call 609-989-2171.

• Southern Region: Alabama, Florida, Georgia, Kentucky, Mississippi, North Carolina, Puerto Rico, South Carolina, and Tennessee, call 404-832-1140.

• Central Region: Illinois, Indiana, Iowa, Kansas, Michigan, Minnesota, Missouri, Nebraska, North Dakota, South Dakota, and Wisconsin, call 816-329-3800.

• Southwest Region: Arkansas, Louisiana, New Mexico, Oklahoma, and Texas, call 713-272-2859.

• Western Region: Alaska, Arizona, California, Colorado, Hawaii, Idaho, Montana, Nevada, Oregon, Utah, Washington, and Wyoming, call 720-963-3160.

Intrastate pipeline operators should contact the appropriate State pipeline safety authority. A list of State pipeline safety authorities is provided at: http://www.napsr.org/managers/napsr_state_program_managers2.htm.

For general information about this notice, contact David Lehman, Director for Emergency Support and Security, 202-366-4439 or by email at PHMSA.OPA90@dot.gov.

SUPPLEMENTARY INFORMATION:

I. Background

The purpose of this advisory bulletin is to remind owners and operators of gas and hazardous liquid pipelines, particularly those with facilities located in offshore and inland areas, about the serious safety-related issues that can result from the passage of hurricanes. Potential damage can occur to offshore platforms and pipelines, onshore pumping stations, compressor stations, and terminals.

Operators have a general obligation to identify any conditions that can adversely affect the operation of their pipelines and to take appropriate corrective measures upon discovering such conditions. Specifically, § 192.613 of the gas pipeline safety regulations states that “[e]ach operator shall have a procedure for continuing surveillance of its facilities to determine and take appropriate action concerning . . . unusual operating and maintenance conditions,” and “[i]f a segment of pipeline is determined to be in unsatisfactory condition but no immediate hazard exists, the operator shall initiate a program to recondition or phase out the segment involved, or, if the segment cannot be reconditioned or phased out, reduce the maximum allowable operating pressure in accordance with § 192.619(a) and (b).” Section 195.401(b)(1) of the hazardous liquid pipeline safety regulations states that “[w]henever an operator discovers any condition that could adversely affect the safe operation of its pipeline system, it must correct the condition within a reasonable time. However, if the condition is of such a nature that it presents an immediate hazard to persons or property, the operator may not operate the affected part of the system until it has corrected the unsafe condition.” Section 195.401(b)(2) further states that “[w]hen an operator discovers a condition on a pipeline covered under [the integrity management requirements in] § 195.452, the operator must correct the condition as prescribed in § 195.452(h).”

Operators of shallow-water gas and hazardous liquid pipelines in the Gulf of Mexico and its inlets have a specific obligation to “prepare and follow a procedure to identify [their] pipelines . . . that are at risk of being an exposed underwater pipeline or a hazard to navigation . . . [and to] conduct appropriate underwater inspections . . . [of those pipelines] based on the identified risk[;]” and upon discovering that “its pipeline is an exposed underwater pipeline or poses a hazard to navigation,” to promptly report the location of that pipeline to the National Response Center, to mark its location, and to ensure its reburial within a specified time. 49 CFR 192.612, 195.413.

Hurricanes can adversely affect the operation of a pipeline and require corrective action under §§ 192.613 and 195.401. Hurricanes also increase the risk of underwater pipelines in the Gulf of Mexico and its inlets becoming exposed or constituting a hazard to navigation under §§ 192.612 and 195.413. The concentration of U.S. oil and gas production, processing, and transportation facilities in the Gulf of Mexico and onshore Gulf Coast means that a significant percentage of domestic oil and gas production and processing is prone to disruption by hurricanes.

In 2005, Hurricanes Katrina and Rita caused significant damage to the oil and gas production structures. The onshore damage caused a significant impact in the ability of the oil and gas industry to respond due to the lack of resources, personnel, and infrastructure, as well as significant damage to onshore processing facilities and power supplies. There were significant competing resource needs with the impacts caused by the devastation of New Orleans and western Louisiana/eastern Texas shore communities that normally provide the services and supplies for the industry.

II. Advisory Bulletin (ADB-2015-02)

To: Owners and operators of gas and hazardous liquid pipeline systems.

Subject: Potential for damage to pipeline facilities caused by hurricanes.

Advisory: All owners and operators of gas and hazardous liquid pipelines are reminded that pipeline safety problems can occur from the passage of hurricanes. Pipeline operators are urged to take the following actions to ensure pipeline safety:

1. Identify persons who normally engage in shallow-water commercial fishing, shrimping, and other marine vessel operations and caution them that underwater offshore pipelines may be exposed or constitute a hazard to navigation. Marine vessels operating in water depths comparable to a vessel's draft or when operating bottom dragging equipment can be damaged and their crews endangered by an encounter with an underwater pipeline.

2. Identify and caution marine vessel operators in offshore shipping lanes and other offshore areas that deploying fishing nets or anchors and conducting dredging operations may damage underwater pipelines, their vessels, and endanger their crews.

3. After a disruption, operators need to bring offshore and inland transmission facilities back online, check for structural damage to piping, valves, emergency shutdown systems, risers and supporting systems. Aerial inspections of pipeline routes should be conducted to check for leaks in the transmission systems. In areas where floating and jack-up rigs have moved and their path could have been over the pipelines, review possible routes and check for sub-sea pipeline damage where required.

4. Operators should take action to minimize and mitigate damages caused by flooding to gas distribution systems, including the prevention of overpressure of low pressure and high pressure distribution systems.

PHMSA would appreciate receiving information about any damage to pipeline facilities caused by hurricanes. The Federal pipeline safety regulations require that operators report certain incidents and accidents to PHMSA by specific methods. Damage not reported by these methods may be reported to David Lehman, Director for Emergency Support and Security, 202-366-4439 or by email at PHMSA.OPA90@dot.gov.

Chapter 601; 49 CFR 1.97.

Issued in Washington, DC, on June 18, 2015.
Jeffrey D. Wiese,
Associate Administrator for Pipeline Safety.

[FR Doc. 2015-15401 Filed 6-22-15; 08:45 am]

BILLING CODE 4910-60-P